DEPARTMENT OF HOUSING AND URBAN DEVELOPMENT

[Docket No. FR-5968-D-01]

Order of Succession for the Office of Strategic Planning and Management

AGENCY: Office of Strategic Planning and Management, HUD.

ACTION: Notice of Order of Succession.

SUMMARY: In this notice, the Director of the Office of Strategic Planning and Management for the Department of Housing and Urban Development designates the Order of Succession for the Office of Strategic Planning and Management. This Order of Succession supersedes all prior Orders of Succession for the Office of Strategic Planning and Management.

DATES: Effective Date: January 10, 2017.

FOR FURTHER INFORMATION CONTACT: Henry Hensley, Director, Office of Strategic Planning and Management, Department of Housing and Urban Development, 451 7th Street SW., Room 10162, Washington, DC 20410, telephone number (202) 402-4360 (this is not a toll free number). Persons with hearing or speech impairments may access this number by calling the toll free Federal Relay Service at (800) 877-8339.

SUPPLEMENTARY INFORMATION: The Director of the Office of Strategic Planning and Management for the Department of Housing and Urban Development is issuing this Order of Succession of officials authorized to perform the functions and duties of the Director of the Office of Strategic Planning and Management when, by reason of absence, disability, or vacancy in office, the Director is not available to exercise the powers or perform the duties of the office. This Order of Succession is subject to the provisions of the Federal Vacancies Reform Act of 1998 (5 U.S.C. 3345-3349d). This Order of Succession supersedes all prior Orders of Succession for the Office of Strategic Planning and Management.

Accordingly, the Director of the Office of Strategic Planning and Management designates the following Order of Succession:

Section A. Order of Succession

During any period when, by reason of absence, disability, or vacancy in office, Director of the Office of Strategic Planning and Management for the Department of Housing and Urban Development is not available to exercise the powers or perform the duties of the Director of the Office of Strategic Planning and Management, the following officials within the Office of Strategic Planning and Management are hereby designated to exercise the powers and perform the duties of the Office. No individual who is serving in an office listed below in an acting capacity may act as the Director of the Office of Strategic Planning and Management pursuant to this Order of Succession.

(1) Chief Risk Officer

(2) Deputy Performance Improvement Officer;

(3) Division Director—Grants Management and Oversight;

(4) Division Director—Transformation;

(5) Division Director—Operations.

These officials shall perform the functions and duties of the office in the order specified herein, and no official shall serve unless all the other officials, whose position titles precede his/hers in this order, are unable to act by reason of absence, disability, or vacancy in office.

Section B. Authority Superseded

This Order of Succession supersedes all prior Orders of Succession for the Office of Strategic Planning and Management.

Authority: Section 7(d), Department of Housing and Urban Development Act, 42 U.S.C. 3535(d).

Dated: January 10, 2017.
Henry Hensley,
Director, Office of Strategic Planning and Management.

[FR Doc. 2017-00878 Filed 1-13-17; 8:45 am]

BILLING CODE 4210-67-P